DEPARTMENT OF COMMERCE

Bureau of Industry and Security

15 CFR Part 736

[Docket No. 060818222-6222-01]

RIN 0694-AD83

Amendment to General Order No. 3: Addition of Certain Entities

AGENCY: Bureau of Industry and Security, Commerce.

ACTION: Final rule.

SUMMARY: The Bureau of Industry and Security is revising the Export Administration Regulations (EAR) by amending a general order published on June 5, 2006 in the Federal Register to add nine additional entities related to Mayrow General Trading. That general order imposed a license requirement for exports and reexports of all items subject to EAR where the transaction involved Mayrow General Trading or entities related, as specified in that general order. The order also prohibited the use of License Exceptions for exports or reexports of any items subject to the EAR involving such entities. This rule will add the following entities related to Mayrow General Trading to that general order: Akbar Ashraf Vaghefi (Germany and the United Arab Emirates (UAE)), Neda Overseas Electronics L.L.C. (UAE), Mostafa Salehi (UAE), IKCO Trading GmbH (Germany), Pyramid Technologies (UAE), A.H. Shamnad (UAE), S. Basheer (UAE), Hamed Athari (UAE), and Mayrow Technics Co. (UAE). In addition, this rule will spell out the full name and provide a pseudonym of one of the previous entities listed in the general order, F.N. Yaghmaei, as Farrokh Nia Yaghmaei, a.k.a., Farrokh Nia Yaghmayi.

DATES: Effective Date: This rule is effective September 6, 2006.

FOR FURTHER INFORMATION CONTACT: Michael D. Turner, Director, Office of Export Enforcement, Bureau of Industry and Security, Department of Commerce, P.O. Box 273, Washington, DC 20044; Phone: (202) 482-1208, x3; E-mail: rpd2@bis.doc.gov; Fax: (202) 482-0964.

SUPPLEMENTARY INFORMATION:

Background

The United States Government, including the United States Department of Commerce, Bureau of Industry and Security (BIS), has come into the possession of information giving reason to believe, based on specific and articulable facts, that Akbar Ashraf Vaghefi (Germany and the United Arab Emirates (UAE)), Neda Overseas Electronics L.L.C. (UAE), Mostafa Salehi (UAE), IKCO Trading GmbH (Germany), Pyramid Technologies (UAE), A.H. Shamnad (UAE), S. Basheer (UAE), Hamed Athari (UAE), and Mayrow Technics Co. (UAE) are affiliated or conducting business with Mayrow General Trading and its related entities, and have acquired or attempted to acquire electronic components and devices capable of being used to construct Improvised Explosive Devices (IEDs). These electronic components and devices (“the commodities”) have been, and may continue to be, employed in IEDs or other explosive devices used against Coalition Forces in Iraq and Afghanistan.

In order to protect Coalition Forces operating in Iraq and Afghanistan, the Department of Commerce is amending General Order No. 3, set forth in Supplement No. 1 to part 736, to curtail the named entities' acquisition of the commodities. Pursuant to 15 CFR parts 736 and 744 (2006), that order imposed a license requirement for exports and reexports of all items subject to the Export Administration Regulations (EAR) (15 CFR parts 730 through 774) (2006) to Mayrow General Trading and entities related to or controlled by it. Specifically, this rule adds nine additional entities to General Order No. 3 that are related to Mayrow General Trading as follows:

Akbar Ashraf Vaghefi, Koburgerstr 10, D-10825, Berlin, Germany; and Shop No. 3-4 Sharafia Ahmed Ali Building, Al Nakheel, Deira, Dubai, U.A.E.;

Neda Overseas Electronics L.L.C., No. 308, 3rd Floor, Rafi Center, Al Nakheel, Deira, Dubai, U.A.E.;

Mostafa Salehi, No. 308, 3rd Floor, Rafi Center, Al Nakheel, Deira, Dubai, U.A.E.;

IKCO Trading GmbH, Schadowplatz 5, 40212 Dusseldorf, Germany;

Pyramid Technologies, P.O. Box 42340, Dubai, U.A.E.; and No. 3-4, Sharafia Ahmed Ali Building, Al Nakheel, Deira, Dubai 396, U.A.E.;

A.H. Shamnad, P.O. Box 42340, Dubai, U.A.E.; and No. 3-4 Sharafia Ahmed Ali Building, Al Nakheel, Deira, Dubai 396, U.A.E.;

S. Basheer, No. 3-4 Sharafia Ahmed Ali Building, Al Nakheel, Deira, Dubai 396, U.A.E.;

Hamed Athari, No. 3-4 Sharafia Ahmed Ali Building, Al Nakheel, Deira, Dubai 396, U.A.E.; and

Mayrow Technics Co, No. 3-4 Sharafia Ahmed Ali Building, Al Nakheel, Deira, Dubai 396, U.A.E.

Under this order, a BIS license is required for the export or reexport of any item subject to the EAR to any of the above-named entities, including any transaction in which any of the above-named entities will act as purchaser, intermediate consignee, ultimate consignee, or end-user of the items. This order also prohibits the use of License Exceptions (see part 740 of the EAR) for exports and reexports of items subject to the EAR involving such entities.

This rule will spell out the full name and provide a pseudonym of one of the entities that was listed in General Order No. 3 published on June 5, 2006. F.N. Yaghmaei will now be listed as Farrokh Nia Yaghmaei, a.k.a., Farrokh Nia Yaghmayi, in the general order to better assist the public.

Consistent with section 6 of the Export Administration Act of 1979, as amended (50 U.S.C. app. 2401-2420) (2000) (the “Act”), a foreign policy report was submitted to Congress on August 29, 2006, notifying Congress of the imposition of a control in the form of a licensing requirement for exports and reexports of all items subject to the EAR destined to the nine additional entities related to Mayrow General Trading that are added to General Order No. 3 with this final rule.

Since August 21, 2001, the Act has been in lapse and the President, through Executive Order 13222 of August 17, 2001 (3 CFR, 2001 Comp. 783 (2002)), as extended most recently by the Notice of August 3, 2006 (71 FR 44551 (August 7, 2006)), has continued the EAR in effect under the International Emergency Economic Powers Act (50 U.S.C. 1701-1706 (2000)) (“IEEPA”). BIS continues to carry out the provisions of the Act, as appropriate and to the extent permitted by law, pursuant to Executive Order 13222.

Rulemaking Requirements

1. This rule has been determined to be not significant for purposes of Executive Order 12866.

2. Notwithstanding any other provision of law, no person is required to respond to nor be subject to a penalty for failure to comply with a collection of information, subject to the requirements of the Paperwork Reduction Act of 1995 (44 U.S.C. 3501 et seq.) (PRA), unless that collection of information displays a currently valid Office of Management and Budget (OMB) Control Number. This regulation involves collections previously approved by the OMB under control numbers 0694-0088, “Multi-Purpose Application,” which carries a burden hour estimate of 58 minutes to prepare and submit form BIS-748. Miscellaneous and recordkeeping activities account for 12 minutes per submission. Total burden hours associated with the Paperwork Reduction Act and Office and Management and Budget control number 0694-0088 are expected to increase slightly as a result of this rule. Send comments regarding these burden estimates or any other aspect of this collection of information, including suggestions for reducing the burden, to David Rostker, OMB Desk Officer, by e-mail at david_rostker@omb.eop.gov or by fax to (202) 395-7285; and to the Regulatory Policy Division, Bureau of Industry and Security, Department of Commerce, P.O. Box 273, Washington, DC 20044, e-mail: publiccomments@bis.doc.gov.

3. This rule does not contain policies with Federalism implications as that term is defined in Executive Order 13132.

4. The provisions of the Administrative Procedure Act (5 U.S.C. 553) requiring notice of proposed rulemaking, the opportunity for public participation, and a delay in effective date, are inapplicable because this regulation involves a military or foreign affairs function of the United States. (See 5 U.S.C. 553(a)(1)). Further, no other law requires that a notice of proposed rulemaking and an opportunity for public comment be given for this rule. Because a notice of proposed rulemaking and an opportunity for public comment are not required to be given for this rule by 5 U.S.C. 553, or by any other law, the analytical requirements of the Regulatory Flexibility Act, 5 U.S.C. 601 et. seq., are not applicable.

List of Subjects in 15 CFR Part 736

Exports, foreign trade.

Accordingly, part 736 of the Export Administration Regulations (15 CFR part 736) is amended as follows:

PART 736—[AMENDED]

1. The authority citation for 15 CFR part 736 is revised to read as follows:

Authority: 50 U.S.C. app. 2401 et seq.; 50 U.S.C. 1701 et seq.; 22 U.S.C. 2151 (note), Public Law 108-175; E.O. 12938, 59 FR 59099, 3 CFR, 1994 Comp., p. 950; E.O. 13020, 61 FR 54079, 3 CFR, 1996 Comp., p. 219; E.O. 13026, 61 FR 58767, 3 CFR, 1996 Comp., p. 228; E.O. 13222, 66 FR 44025, 3 CFR, 2001 Comp., p. 783; E.O. 13338, 69 FR 26751, May 13, 2004; Notice of October 25, 2005, 70 FR 62027 (October 27, 2005); Notice of August 3, 2006, 71 FR 44551 (August 7, 2006).

2. General Order 3 to Supplement No. 1 to part 736, is amended:

a. By revising the heading, redesignating the text of paragraph (a) as paragraph (a)(1) and revising the name “F.N. Yaghmaei” to read “Farrokh Nia Yaghmaei, a.k.a., Farrokh Nia Yaghmayi”;

b. By adding new paragraph (a)(2); and

c. By revising paragraph (b) to read as follows:

Supplement No. 1 to Part 736—General Orders

* * * * *

General Order No. 3 of June 5, 2006, as amended on September 6, 2006; Imposition of license requirement for exports and reexports of items subject to the EAR to Mayrow General Trading and entities related, as follows: Micatic General Trading; Majidco Micro Electronics; Atlinx Electronics; Micro Middle East Electronics; Narinco; Farrokh Nia Yaghmaei, a.k.a., Farrokh Nia Yaghmayi; H. Ghasir; Akbar Ashraf Vaghefi, Neda Overseas Electronics L.L.C., Mostafa Salehi, IKCO Trading GmbH, Pyramid Technologies, A.H. Shamnad, S. Basheer, Hamed Athari, and Mayrow Technics Co. Mayrow General Trading and all entities related are located in Dubai, United Arab Emirates; except for Akbar Ashraf Vaghefi (located in Germany and Dubai, United Arab Emirates) and IKCO Trading GmbH (located in Germany).

(a) License requirements. (1) Effective June 5, 2006, a license is required to export or reexport any item subject to the EAR to Mayrow General Trading or entities related, as follows: Micatic General Trading; Majidco Micro Electronics; Atlinx Electronics; Micro Middle East Electronics; Narinco; Farrokh Nia Yaghmaei, a.k.a., Farrokh Nia Yaghmayi; and H. Ghasir. Mayrow General Trading and all entities related described in paragraph (a)(1) are located in Dubai, United Arab Emirates. This license requirement applies with respect to any transaction in which any of the above-named entities will act as purchaser, intermediate consignee, ultimate consignee, or end-user of the items.

(2) Effective September 6, 2006, a license is required to export or reexport any item subject to the EAR to these entities related to Mayrow General Trading, as follows: Akbar Ashraf Vaghefi; Neda Overseas Electronics L.L.C.; Mostafa Salehi; IKCO Trading GmbH; Pyramid Technologies; A.H. Shamnad; S. Basheer; Hamed Athari; and Mayrow Technics Co. All entities related to Mayrow General Trading described in paragraph (a)(2) are located in Dubai, United Arab Emirates; except for Akbar Ashraf Vaghefi (located in Germany and Dubai, United Arab Emirates) and IKCO Trading GmbH (located in Germany). This license requirement applies with respect to any transaction in which any of the above-named entities will act as purchaser, intermediate consignee, ultimate consignee, or end-user of the items.

(b) License Exceptions. No License Exceptions are available for exports or reexports involving the entities described in paragraph (a)(1) and (a)(2) of this General Order.

Dated: August 30, 2006.
Matthew S. Borman,
Deputy Assistant Secretary for Export Administration.

[FR Doc. E6-14738 Filed 9-5-06; 8:45 am]

BILLING CODE 3510-33-P